DEPARTMENT OF DEFENSE

Office of the Secretary

[Transmittal No. 23-74]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-74, Policy Justification, and Sensitivity of Technology.

Dated: November 6, 2024.
Stephanie J. Bost,
Alternate OSD Federal Register Liaison Officer, Department of Defense.

BILLING CODE 6001-FR-P

BILLING CODE 6001-FR-C

Transmittal No. 23-74

Notice of Proposed Issuance of Letter of Offer Pursuant to Section 36(b)(1) of the Arms Export Control Act, as amended

(i) Prospective Purchaser: Government of Finland

(ii) Total Estimated Value:

Major Defense Equipment * | $370 million
Other | $130 million
TOTAL | $500 million

(iii) Description and Quantity or Quantities of Articles or Services under Consideration for Purchase:

Major Defense Equipment (MDE):

Up to one hundred fifty (150) AGM-88G Advanced Anti-Radiation Guided Missiles-Extended Range (AARGM-ERs)

Non-MDE:

Also included are Dummy Air Training Missiles (DATM); missile containers; software; training; support equipment; spare and repair parts; publications and technical documentation; transportation; U.S. Government and contractor engineering; technical and logistical support services; and other related elements of logistics and program support.

(iv) Military Department: Navy (FI-P-AAW)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: October 23, 2023

* As defined in Section 47(6) of the Arms Export Control Act.

POLICY JUSTIFICATION

Finland—Advanced Anti-Radiation Guided Missiles-Extended Range (AARGM-ER)

The Government of Finland has requested to buy up to one hundred fifty (150) AGM-88G Advanced Anti-Radiation Guided Missiles-Extended Range (AARGM-ERs). Also included are DATM; missile containers; software; training; support equipment; spare and repair parts; publications and technical documentation; transportation; U.S. Government and contractor engineering; technical and logistical support services; and other related elements of logistics and program support. The estimated total cost is $500 million.

This proposed sale will support the foreign policy and national security of the United States (U.S.) by improving the security of a NATO Ally that is an important force for political stability and economic progress in Europe.

The proposed sale will improve Finland's capability to meet current and future threats by strengthening its self-defense capabilities and ensuring interoperability with U.S. and other allied forces. Finland will have no difficulty absorbing this equipment into its armed forces.

The proposed sale of this equipment and support will not alter the basic military balance in the region.

The principal contractor will be Northrop Grumman Systems, Falls Church, VA. There are no known offset agreements proposed in connection with this potential sale.

Implementation of this proposed sale will not require the assignment of any additional U.S. Government or contractor representatives to Finland.

There will be no adverse impact on U.S. defense readiness as a result of this proposed sale.

Transmittal No. 23-74

Notice of Proposed Issuance of Letter of Offer Pursuant to Section 36(b)(1) of the Arms Export Control Act

Annex

Item No. vii

(vii) Sensitivity of Technology:

1. The AGM-88G Advanced Anti-Radiation Guided Missile Extended Range (AARGM-ER) is a medium-range air-to-ground missile employed for Suppression and/or Destruction of Enemy Air Defenses. The AARGM-ER system is an upgrade to the AARGM, which is an upgrade to the AGM-88 High-Speed Anti-Radiation Missile system. The AARGM-ER incorporates hardware and software modifications to improve AGM-88E AARGM capabilities to extend the range, increase survivability, and enhance effectiveness against future threats.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Finland can provide substantially the same degree of protection for the sensitive technology being released as the U.S. Government. This sale is necessary in furtherance of the U.S. foreign policy and national security objectives outlined in the Policy Justification.

5. All defense articles and services listed in this transmittal have been authorized for release and export to Finland.

[FR Doc. 2024-26158 Filed 11-8-24; 8:45 am]

BILLING CODE 6001-FR-P